SECURITIES AND EXCHANGE COMMISSION

[File No. 500-1]

In The Matter of Apogee Technology, Inc.; Order of Suspension of Trading

April 16, 2010.

It appears to the Securities and Exchange Commission that there is a lack of current and accurate information concerning the securities of Apogee Technology, Inc. (“Apogee”) because it has been delinquent in its required periodic reports since March 2009. Apogee is quoted on the Pink Sheets OTC Markets, Inc. under the ticker symbol ATCS.

The Commission is of the opinion that the public interest and the protection of investors require a suspension of trading in the securities of the above-listed company.

Therefore, it is ordered, pursuant to Section 12(k) of the Securities Exchange Act of 1934, that trading in the securities of the above-listed company is suspended for the period from 9:30 a.m. EDT on April 16, 2010, through 11:59 p.m. EDT on April 29, 2010.

By the Commission.
Jill M. Peterson,
Assistant Secretary.

[FR Doc. 2010-9144 Filed 4-16-10; 4:15 pm]

BILLING CODE 8011-01-P